FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than July 30, 2005.

A. Federal Reserve Bank of Chicago (Patrick M. Wilder, Assistant Vice President) 230 South LaSalle Street, Chicago, Illinois 60690-1414:

1. Associated Banc-Corp, Green Bay, Wisconsin; to merge with State Financial Services Corporation, Milwaukee, Wisconsin, and thereby indirectly acquire State Financial Bank, National Association, Hales Corners, Wisconsin.

B. Federal Reserve Bank of Kansas City (Donna J. Ward, Assistant Vice President) 925 Grand Avenue, Kansas City, Missouri 64198-0001:

1. First Centralia Bancshares, Inc., Centralia, Kansas; to acquire voting shares of Century Capital Financial, Inc., Kilgore, Texas, and thereby indirectly acquire voting shares of Century Capital Financial-Delaware, Inc., Wilmington, Delaware, and City National Bank, Kilgore, Texas.

2. Morrill Bancshares, Inc., Merriam, Kansas; to acquire directly and indirectly a majority of the voting shares of Century Capital Financial, Inc., Kilgore, Texas, and thereby indirectly acquire voting shares of Century Capital Financial-Delaware, Inc., Wilmington, Delaware, and City National Bank, Kilgore, Texas.

3. Davis Bancorporation, Inc., Davis, Oklahoma; to acquire voting shares of Century Capital Financial, Inc., Kilgore, Texas, and thereby indirectly acquire voting shares of Century Capital Financial-Delaware, Inc., Wilmington, Delaware, and City National Bank, Kilgore, Texas.

C. Federal Reserve Bank of St. Louis (Glenda Wilson, Community Affairs Officer) 411 Locust Street, St. Louis, Missouri 63166-2034:

1. First Banks, Inc., Hazelwood, Missouri; and its subsidiary bank holding company, The San Francisco Company, San Francisco, California; to acquire 100 percent of International Bank of California, Los Angeles, California.

D. Federal Reserve Bank of San Francisco (Tracy Basinger, Director, Regional and Community Bank Group) 101 Market Street, San Francisco, California 94105-1579:

1. Beverly Hills Bancorp, Inc., WFC Inc., and Wilshire Acquisitions Corporation, all of Calabasas, California; to become bank holding companies by acquiring 100 percent of First Bank of Beverly Hills, Calabasas, California.

In connection with this application, Beverly Hills Bancorp, Inc., and WFC, Inc., have also applied to acquire Wilshire Acquisitions Trust 1, and thereby indirectly acquire WCICC, Inc., WFICC, Inc., Wilshire Mortgage Funding IV, Wilshire Mortgage Funding V, and Wilshire Mortgage Funding VI, all of Calabasas, California, and thereby engage in extending credit and servicing loans, pursuant to section 225.28(b)(1) of Regulation Y.

Board of Governors of the Federal Reserve System, June 29, 2005.
Robert deV. Frierson,
Deputy Secretary of the Board.

[FR Doc. 05-13210 Filed 7-5-05; 8:45 am]

BILLING CODE 6210-01-S